DEPARTMENT OF ENERGY

Federal Energy Regulatory Commission

[Project No. 7518-016]

Erie Boulevard Hydropower, L.P.; Saint Regis Mohawk Tribe; Notice of Application for Transfer of License and Soliciting Comments, Motions To Intervene, and Protests

On November 27, 2013, Erie Boulevard Hydropower, L.P. (Erie or transferor) and the Saint Regis Mohawk Tribe (Tribe or transferee) filed an application to transfer the license for the Hogansburg Hydroelectric Project No. 7518, located on the St. Regis River in Franklin County, New York. That same day, the Tribe (as a prospective licensee) filed an application to surrender the project license and to decommission and remove the project dam. On January 21, 2015, Erie and the Tribe filed a letter requesting that the Commission construe their November 27, 2013 filings as a request to partially transfer the license for the Hogansburg Project to add the Tribe as a co-licensee.

Erie and the Tribe now contemplate a two-step process where the Tribe would first become a co-licensee, and would subsequently surrender the license and decommission the project facilities, with Erie remaining a co-licensee. This notice applies only to the partial transfer request. If the partial transfer is approved, the Commission will solicit comments and review the surrender and decommissioning request in a separate proceeding.

Applicant Contacts: For Transferor: Mr. John A. Whittaker, IV, Winston & Strawn LLP, 1700 K Street NW., Washington, DC 20006, Phone: 202-282-5766, Email: jwhittker@winston.com. For Transferee: Mr. John J. Privitera, McNamee, Lochner, Titus & Williams, P.C., 677 Broadway, Albany, NY 12207, Phone: 518-447-3200, Email: privitera@mltw.com.

FERC Contact: Patricia W. Gillis, (202) 502-8735.

Deadline for filing comments, motions to intervene, and protests: 30 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-7518-016.

Dated: February 6, 2015.
Kimberly D. Bose,
Secretary.

[FR Doc. 2015-02933 Filed 2-11-15; 8:45 am]

BILLING CODE 6717-01-P